DEPARTMENT OF HOMELAND SECURITY

8 CFR Part 316

[CIS No. 2131-03]

RIN 1615-AA72

Adding and Removing Institutions to and From the List of Recognized American Institutions of Research

AGENCY: U.S. Citizenship and Immigration Services, Department of Homeland Security.

ACTION: Final rule.

SUMMARY: Section 316 of the Immigration and Nationality Act (Act) generally requires that in order for lawful permanent resident aliens to be eligible for naturalization, they must reside continuously within the United States for at least 5 years immediately preceding their application for naturalization. However, under certain circumstances resident aliens and their dependents who expect to be continuously absent from the United States for one year or more because of work at one of the American institutions of research recognized as such under the provisions of the Act may be given permission to be absent without interrupting the continuous residence requirement for naturalization. This rule amends the Department of Homeland Security regulations by adding Rutgers University, Indiana University, and Harvard University to the list of American institutions of research, recognized for the purpose of preserving residence in the United States for naturalization eligibility. This rule also removes the dissolved Harvard Institute for International Development from the same list.

DATES: This final rule is effective October 28, 2003.

FOR FURTHER INFORMATION CONTACT: Gerard Casale, Adjudications Officer, Business Process and Reengineering Division, U.S. Citizenship and Immigration Services, Department of Homeland Security, 425 I Street, NW., Washington, DC 20536; telephone (202) 514-0788.

SUPPLEMENTARY INFORMATION: Prior to the transfer of the functions of the former Immigration and Naturalization Service (Service) to the Department of Homeland Security in March 2003, district directors and regional commissioners of the Service made decisions on requests for recognition as an American Institution of Research. (1) Based on the findings of the former Newark District Director, the Acting Regional Director of the Eastern Region determined and ordered on September 30, 1999, that Rutgers University, the State University of New Jersey, is an American institution of research for the purpose of preserving residence in the United States for naturalization. (2) Based on the findings of the former Chicago District Director, the Regional Director of the Central Region determined and ordered on January 4, 2001, that Indiana University is an American institution of research for the purpose of preserving residence in the United States for naturalization. (3) Based on the findings of the former Boston District Director, the Regional Director of the Eastern Region determined and ordered on March 1, 2001, that Harvard University is an American institution of research for the purpose of preserving residence in the United States for naturalization.

Accordingly, the regulations are amended by adding those institutions to the list of recognized American institutions of research, thus making their qualified employees eligible to apply for the continuity of residence exemption benefits of section 316(b) of the Act.

In addition, based on the findings of the former Boston District Director, the Regional Director of the Eastern Region determined and ordered on March 1, 2001, that the Harvard Institute for International Development (HIID) is no longer an American institution of research for the purpose of preserving residence in the United States for naturalization, since Harvard University had dissolved the HIID on June 30th, 2000. Employees who had been conducting research under the HIID were absorbed into other programs within Harvard University. Accordingly, the regulations are amended by removing this institution from the list of recognized American institutions of research.

Good Cause Exception

This rule is being promulgated as a final rule. The Department has determined that good cause exists under 5 U.S.C. 553(b)(B) to make this rule effective on the date of publication in the Federal Register because prior notice and comment in this case is unnecessary and contrary to the public interest. The Department believes it is unnecessary because this rule consists of an update of an existing list in 8 CFR 316.20 of organizations that have already been designated by agency determinations made pursuant to the Immigration and Nationality Act. The updating of the list is a purely technical publication action that does not fundamentally impact any public right. Previous updates of this list have not elicited public comment, nor would any comment, if submitted, affect the composition of the list. For that reason updates of the list in 8 CFR 316.20 have always been and should continue to be published as a final rule.

To delay publication of the list as a final rule would be contrary to the public interest. Prospective applicants for naturalization whose eligibility depends on an up-to-date listing of recognized American institutions of research are in urgent need of relief because of long delays in consequence of the agency's transition from the Department of Justice to the Department of Homeland Security. Their access to the benefits of these agency designations is adversely impacted by any delay in publication of the updated list of recognized institutions. For these reasons, the Department finds that there is good cause to adopt this rule without the prior notice and comment period ordinarily required under 5 U.S.C. 553(b).

Pursuant to 5 U.S.C 553(d)(3), the Department is making this rule final and effective upon publication because of the same good cause exception described above.

Regulatory Flexibility Act

I have reviewed this regulation in accordance with the Regulatory Flexibility Act, 5 U.S.C. 605(b), and by approving it, I certify that the rule will not have an effect on small entities as that term is defined in 5 U.S.C. 601(6). This rule relates to agency management and merely updates the existing institutional listings currently contained in Title 8 of the Code of Federal Regulations.

Unfunded Mandates Reform Act of 1995

This rule will not result in the expenditure by State, local and tribal governments, in the aggregate, or by the private sector, of $100 million or more in any one year, and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

This rule is not considered by the Department of Homeland Security, to be a “significant regulatory action” under Executive Order 12866, section 3(f), Regulatory Planning and Review. Accordingly, this rule does not need to be submitted to the Office of Management and Budget for review in accordance with this Executive Order.

Executive Order 13132

This rule will not have substantial direct effects on the States, on the relationship between the national government and the States, or on the distribution of power and responsibilities among the various levels of government. Therefore, in accordance with section 6 of Executive Order 13132, it is determined that this rule does not have sufficient federalism implications to warrant the preparation of a federalism summary impact statement.

Executive Order 12988 Civil Justice Reform

This rule meets the applicable standards set forth in section 3(a) and 3(b)(2) of Executive Order 12988.

List of Subjects in 8 CFR Part 316

Citizenship and naturalization, Reporting and recordkeeping requirements.

Accordingly, part 316 of chapter I of title 8 of the Code of Federal Regulations is amended as follows:

PART 316—GENERAL REQUIREMENTS FOR NATURALIZATION

1. The authority citation for part 316 continues to read as follows:

Authority: 8 U.S.C. 1103, 1181, 1182, 1427, 1443, 1447; 8 CFR part 2.

§ 316.20 [Amended]

2. In § 316.20, paragraph (a) is amended by:

a. Adding the American institution of research “Harvard University (research and educational programs only)” immediately after “Graduate Faculty of Political and Social Science Division of the New School for Social Research, New York, N.Y.”;

b. Removing the “Harvard Institute for International Development.”

c. Adding the American institution of research “Indiana University at Bloomington, Indianapolis, South Bend, Northwest, Kokomo, Southeast, East, and Fort Wayne” immediately after “Humboldt State University, School of Natural Resources, Wildlife Management Department'; and

d. Adding the American institution of research “Rutgers University, the State University of New Jersey” immediately after “Rockefeller Foundation'.

Dated: October 21, 2003.
Tom Ridge,
Secretary of Homeland Security.

[FR Doc. 03-27151 Filed 10-27-03; 8:45 am]

BILLING CODE 4410-10-P